DEPARTMENT OF DEFENSE

Office of the Secretary

Defense Business Board; Notice of Federal Advisory Committee Meeting

AGENCY: Office of the Deputy Secretary of Defense, Defense Business Board, Department of Defense (DoD).

ACTION: Notice of Federal Advisory Committee meeting.

SUMMARY: The DoD is publishing this notice to announce that the following Federal Advisory Committee meeting of the Defense Business Board (“the Board”) will take place.

DATES: Day 1—Open to the public Wednesday, November 3, 2021 from 8:55 a.m. to 10:20 a.m. Eastern Standard Time. Closed to the public Wednesday, November 3, 2021 from 11:30 a.m. to 7:30 p.m. Eastern Standard Time. Day 2—Closed to the public Thursday, November 4, 2021 from 8:30 a.m. to 10:30 a.m. Eastern Standard Time. Open to the public Thursday, November 4, 2021 from 10:45 a.m. to 11:40 a.m. Eastern Standard Time. Closed to the public Thursday, November 4, 2021 from 2:00 p.m. to 4:30 p.m.

ADDRESSES: The open and closed portions of the meeting will be in Room 3E869 in the Pentagon, Washington DC. Due to the current guidance on combating the Coronavirus, the open portions will be conducted by teleconference only. To participate in the open portion, see the Meeting Accessibility section for instructions.

FOR FURTHER INFORMATION CONTACT: Ms. Jennifer Hill, Designated Federal Officer of the Board in writing at Defense Business Board, 1155 Defense Pentagon, Room 5B1088A, Washington, DC 20301-1155; or by email at jennifer.s.hill4.civ@mail.mil; or by phone at 571-342-0070.

SUPPLEMENTARY INFORMATION: This meeting is being held under the provisions of the Federal Advisory Committee Act (FACA) (5 U.S.C.), the Government in the Sunshine Act (5 U.S.C. 552b), and 41 CFR 102-3.140 and 102-3.150. Due to circumstances beyond the control of the Department of Defense and the Designated Federal Officer for the Board, DoD was unable to provide public notification required by 41 CFR 102-3.150(a) concerning its November 3-4, 2021 meeting. Accordingly, the Advisory Committee Management Officer for the Department of Defense, pursuant to 41 CFR 102-3.150(b), waives the 15-calendar day notification requirement.

Purpose of the Meeting: The mission of the Board is to examine and advise the Secretary of Defense on overall DoD management and governance. The Board provides independent advice reflecting an outside private sector perspective on proven and effective best business practices that can be applied to DoD.

Agenda: The open portion of the Board meeting will begin November 3, 2021 at 8:55 a.m. with opening remarks by Jennifer Hill, the Designated Federal Officer. The Board will then receive remarks by the Board Chair, introductions of new Board members, and remarks by the Deputy Secretary of Defense. The open portion of the meeting will conclude at 10:20 a.m. The meeting will move into closed session from 11:30 a.m. to 7:30 p.m. to receive classified briefings from HON Michael McCord, Under Secretary of Defense—Comptroller/Chief Financial Officer, General Mark A. Milley, Chairman of the Joint Chiefs of Staff, HON Frank Kendall, Secretary of the Air Force, Mr. Robin Swan, the Director of the Office of Business Transformation, USA, Mr. Richard Lombardi, Deputy Chief Management Officer, USAF, Ms. Robin Tomlin, Deputy Chief Management Officer, USN, Mr. Dave Spirk, Chief Data Officer, DoD Office of the Chief Information Officer, Dr. Kelly Fletcher, Performing the Duties of the DoD Chief Information Officer, and Mr. Greg Kausner, Performing the Duties of Under Secretary of Defense for Acquisition and Sustainment.

The Board will reconvene in closed session on November 4, 2021 at 8:15 a.m. to 10:30 a.m. with opening remarks by the Designated Federal Officer and the Chair. The Board will then receive classified briefings from Mr. Gregory Little, Director, the Under Secretary of Defense Comptroller/Chief Financial Officer, and HON Gilbert R. Cisneros, Jr., Under Secretary of Defense for Personnel and Readiness. The meeting will move into open session from 10:45 a.m. to 11:40 a.m. to receive a briefing from Mr. Farooq Mitha, Director of DoD Office of Small Business Programs. The meeting will move into closed session from 2:00 p.m. to 4:30 p.m. for classified discussion with the Deputy Secretary of Defense and closing remarks by the Board Chair and Designated Federal Officer. The latest version of the full agenda will be available upon publication in the Federal Register on the Board's website at: https://dbb.defense.gov/Meetings/Meeting-November-2021/.

Meeting Accessibility: Pursuant to the FACA and 41 CFR 102-3.140, portions of the meeting on November 3, 2021 from 8:55 a.m. to 10:20 a.m. and on November 4, 2021 from 10:45 a.m. to 11:40 a.m. are open to the public. Persons desiring to participate in the public sessions are required to register. Attendance will be by teleconference only. To attend the public session, submit your name, affiliation/organization, telephone number, and email contact information to the Board at osd.pentagon.odam.mbx.defense-business-board@mail.mil. Requests to attend the public session must be received no later than 3:00 p.m. Eastern Standard Time, on Tuesday, November 2, 2021. Upon receipt of this information, a teleconference line number will be sent to the email address provided which will allow teleconference attendance to the event. (The DBB will be unable to provide technical assistance to any user experiencing technical difficulties during the meeting.)

In accordance with Section 10(d) of the Federal Advisory Committee Act, 5 U.S.C. Appendix and 41 CFR 102-3.155, it is hereby determined that portions of the meeting of the Board include classified information and other matters covered by 5 U.S.C. 552b(c)(1) and that, accordingly, the following dates and times will be closed to the public: November 3, 2021 from 11:30 a.m. to 7:30 p.m., and November 4, 2021 from 8:15 a.m. to 10:30 a.m. and from 2:00 p.m. to 4:30 p.m. The determination is based on the consideration that it is expected that discussions throughout these periods will involve classified matters of national security concern. Such classified material is so intertwined with the unclassified material that it cannot reasonably be segregated into separate discussions without defeating the effectiveness and meaning of the overall meetings. To permit the meeting to be open to the public would preclude discussion of such matters and would greatly diminish the ultimate utility of the Board's findings and recommendations to the Secretary of Defense and to the Deputy Secretary of Defense.

Written Comments and Statements: Pursuant to 41 CFR 102-3.105(j) and 102-3.140 and section 10(a)(3) of the FACA, the public or interested organizations may submit written comments or statements to the Board in response to the stated agenda of the meeting or in regard to the Board's mission in general. Written comments or statements should be submitted to Ms. Jennifer Hill, the Designated Federal Officer, via electronic mail (the preferred mode of submission) at the address listed in the FOR FURTHER INFORMATION CONTACT section. Each page of the comment or statement must include the author's name, title or affiliation, address, and daytime phone number. The Designated Federal Officer must receive written comments or statements being submitted in response to the agenda set forth in this notice by November 1, 2021 to be considered by the Board. The Designated Federal Officer will review all timely submitted written comments or statements with the Board Chair, and ensure the comments are provided to all members of the Board before the meeting. Written comments or statements received after this date may not be provided to the Board until its next scheduled meeting. Pursuant to 41 CFR 102-3.140d, the Board is not obligated to allow any member of the public to speak or otherwise address the Board during the meeting. Members of the public will be permitted to make verbal comments during the meeting only at the time and in the manner described below. If a member of the public is interested in making a verbal comment at the open meeting, that individual must submit a request, with a brief statement of the subject matter to be addressed by the comment, at least three (3) business days in advance to the Designated Federal Officer, via electronic mail (the preferred mode of submission) at the addresses listed in the FOR FURTHER INFORMATION CONTACT section. The Designated Federal Officer will log each request, in the order received, and in consultation with the Board Chair determine whether the subject matter of each comment is relevant to the Board's mission and/or the topics to be addressed in the public meeting. Members of the public who have requested to make a comment and whose comments have been deemed relevant under the process described above will be invited to speak in the order in which the Designated Federal Officer received their requests. The Board Chair may allot a specific amount of time for comments. Please note that all submitted comments and statements will be treated as public documents and will be made available for public inspection, including, but not limited to, being posted on the Board's website.

Dated: October 26, 2021.
Aaron T. Siegel,
Alternate OSD Federal Register Liaison Officer, Department of Defense.

[FR Doc. 2021-23592 Filed 10-28-21; 8:45 am]

BILLING CODE 5001-06-P